DEPARTMENT OF THE INTERIOR

Bureau of Land Management

[LLNVS00560.L58530000.EU0000.241A; N-63293-01; 12-08807; MO# 4500082456; TAS:15X5232]

Notice of Realty Action: Change of Use for Recreation and Public Purposes Act Lease N-63293-01, Clark County, NV

AGENCY: Bureau of Land Management, Interior.

ACTION: Notice.

SUMMARY: The Bureau of Land Management (BLM), Las Vegas Field Office, has determined that land located in Clark County, Nevada is suitable for a change of use to the City of Las Vegas under the authority of the Recreation and Public Purposes (R&PP) Act of 1926, as amended. The City of Las Vegas has requested that the BLM change the current use from a metropolitan police substation and fire station to a public park and fire station.

DATES: Comments regarding the proposed change of use must be submitted to the BLM on or before January 7, 2016.

ADDRESSES: Send written comments concerning the proposed change of use to the BLM, Las Vegas Assistant Field Manager, Division of Lands, 4701 N. Torrey Pines Drive, Las Vegas, NV 89130.

FOR FURTHER INFORMATION CONTACT: Roger Ketterling, at 702-515-5087, or by email at rketterling@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The City of Las Vegas submitted the following described parcel for change of use under the authority of the R&PP Act on August 16, 2007. The parcel is located south of Grand Teton Drive and west of Hualapai Way in Las Vegas, Nevada.

Mount Diablo Meridian, Nevada

Sec. 13, T. 19 S., R. 59 E.,

NW¼NE¼NE¼NE¼, S½NE¼NE¼NE¼.

The area described contains 7.5 acres, in Clark County, Nevada.

According to the City of Las Vegas, since the lease issuance, a new location was secured for the metropolitan police substation, but the area is lacking in recreational facilities since it is surrounded by two, large master planned communities that have yet to be fully developed. The fire station is still needed in order to fill response time gaps for the existing and proposed developments.

The new public park use will consist of picnic shelters, children's splash pad play area, children's shaded play area with equipment, walking path/trail, desert landscaping, turf open play area, basketball courts, restrooms, and a parking lot. The fire station plan of development remains the same with meeting rooms, offices, kitchen facilities, landscaping, and parking, as well as fire personnel living quarters and fire engine vehicle bays.

The proposed change of use is in conformance with the BLM Las Vegas Resource Management Plan and the Record of Decision approved on October 5, 1998. Authority for the transfer and change of use is in conformance with Section 202 of the Federal Land Policy and Management Act of October 21, 1976, (FLPMA) as amended, and Section 203, when the Secretary determines that the sale of the parcels meets the following disposal criteria: Such tract is difficult and uneconomic to manage because of its location or other characteristics—such as the subject's history of use, current level of development, and is not suitable for management by another Federal department or agency. The parcel of land is surrounded by a Master Planned community with residences and local businesses. The lands proposed for the change of use are not needed for Federal purposes and the United States has no present interest in the property.

Should it be approved, the change of use for the 7.5 acres will be made subject to the provisions of FLPMA, the applicable regulations of the Secretary of the Interior, and will contain the following terms, conditions and reservations:

1. A condition that the lease will be subject to all valid existing rights of record.

2. A condition that the conveyance will be subject to all reservations, conditions, and restrictions in authorized lease N-63293-01, including, but not limited to, all mineral deposits in the land so leased, and to it, or persons authorized by it, the right to prospect for, mine and remove such deposits from the same under applicable law and regulations to be established by the Secretary of the Interior.

3. An appropriate indemnification clause protecting the U.S. from claims arising out of the lessee's use, occupancy, or operations on the patented lands.

4. Additional terms and conditions that the authorized officer deems appropriate.

Detailed information concerning the proposed partial transfer of patent/change of use is available for review at the location identified in ADDRESSES above.

Public comments regarding the proposed change of use for the subject 7.5 acres may be submitted in writing to the BLM Las Vegas Field office (see ADDRESSES above) on or before January 7, 2016. Any comments regarding the proposed partial change of use will be reviewed by the BLM Nevada State Director or other authorized official of the Department of the Interior, who may sustain, vacate, or modify this realty action in whole or in part. In the absence of timely filed objections, this realty action will become final determination of the Department of the Interior.

Before including your address, phone number, email, address, or other personal identifying information in your comment, you should be aware that your entire comment, including your personal identifying information, may be made publicly available at any time. While you can ask us in your comment to withhold your personal identifying information from public review, we cannot guarantee that we will be able to do so.

Authority: 43 CFR 2711.1-2.

Vanessa L. Hice,
Assistant Field Manager, Las Vegas Field Office.

[FR Doc. 2015-29829 Filed 11-20-15; 8:45 am]

BILLING CODE 4310-HC-P